FEDERAL COMMUNICATIONS COMMISSION

Notice of Public Information Collection(s) Extension Being Reviewed by the Federal Communications Commission, Comments Requested

November 7, 2008.

SUMMARY: The Federal Communications Commission (Commission or FCC), as part of its continuing effort to reduce paperwork burden, invites the general public and other Federal agencies to take this opportunity to comment on the following information collection extension, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information extension is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 13, 2009. If you anticipate that you will be submitting comments, but find it difficult to do so within the period of time allowed by this notice, you should advise the contacts listed below as soon as possible.

ADDRESSES: Submit your comments by e-mail to PRA@fcc.gov. Include in the e-mail the OMB control number of the collection or, if there is no OMB control number, the Title shown in the SUPPLEMENTARY INFORMATION section below. If you are unable to submit your comments by e-mail contact the person listed below to make alternate arrangements.

FOR FURTHER INFORMATION CONTACT: For additional information about the information collection(s) or to obtain a copy of the collection send an e-mail to PRA@fcc.gov and include the collection's OMB control number as shown in the SUPPLEMENTARY INFORMATION section below (or the title of the collection if there is no OMB control number), or call Jerry Cowden at 202-418-0447.

SUPPLEMENTARY INFORMATION: OMB Control Number: 3060-0813.

Title: Enhanced 911 Emergency Calling Services (47 CFR 20.18).

Form No.: Not applicable.

Type of Review: Extension of a previously approved collection.

Respondents: Business or other for-profit; and state, local or tribal government.

Number of Respondents and Responses: 47,031 respondents; 47,031 responses.

Estimated Time per Response: 1-5 hours.

Frequency of Response: On occasion and one-time reporting requirements, recordkeeping requirement and third party disclosure requirement.

Obligation to Respond: Mandatory.

Total Annual Burden: 198,200 hours.

Total Annual Cost: None.

Privacy Act Impact Assessment: Not applicable.

Needs and Uses: The notification requirement on Public Safety Answering Points (PSAPs) will be used by the carriers to verify that wireless E911 calls are referred to PSAPs who have the technical capability to use the data to the caller's benefit. TTY and dispatch requirements will be used to avoid customer confusion as to the capabilities of their handsets in reaching help in emergency situations, thus minimizing the possibility of critical delays in response time. The annual TTY reports will be used to monitor the progress of TTY technology and thus capability. Consultations on the specific meaning assigned to pseudo-Automatic Location Identification (ALI) are appropriate to ensure that all parties are working with the same information. Coordination between carriers and state and local entities to determine the appropriate PSAPs to receive and respond to E911 calls is necessary because of the difficulty in assigning PSAPs based on the location of the wireless caller. The deployment schedule that must be submitted by carriers seeking a waiver of Phase I or Phase II deployment schedule will be used by the Commission to guarantee that the rules are enforced in as timely a manner as possible within technological constraints. In addition, a wireless carrier must implement E911 service within the six-month period following the date of the PSAP's request. If the carrier challenges the validity of the request, the request will be deemed valid if the PSAP making the request provides the following information:

A. Cost Recovery. The PSAP must demonstrate that a mechanism is in place by which the PSAP will recover its costs of the facilities and equipment necessary to receive and utilize the E911 data elements;

B. Necessary Equipment. The PSAP must provide evidence that it has ordered the equipment necessary to receive and utilize the E911 data elements; and

C. Necessary Facilities. The PSAP must demonstrate that it has made a timely request to the appropriate local exchange carrier for the necessary trunking and other facilities to enable E911 data to be transmitted to the PSAP.

In the alternative, the PSAP may demonstrate that a funding mechanism is in place, that it is E911 capable using a Non-Call Associated Signaling technology, and that it has made a timely request to the appropriate LEC for the necessary ALI database upgrade.

Federal Communications Commission.
Marlene H. Dortch,
Secretary.

[FR Doc. E8-27101 Filed 11-13-08; 8:45 am]

BILLING CODE 6712-01-P